DEPARTMENT OF HOUSING AND URBAN DEVELOPMENT

[Docket No. FR-5700-FA-13]

Announcement of Funding Awards for Fiscal Year 2013 for the Housing Choice Voucher Program

AGENCY: Office of the Assistant Secretary for Public and Indian Housing, HUD.

ACTION: Announcement of Fiscal Year 2013 awards.

SUMMARY: In accordance with Section 102(a)(4)(C) of the Department of Housing and Urban Development Reform Act of 1989, this document notifies the public of funding awards for Fiscal Year (FY) 2013 to public housing agencies (PHAs) under the Section 8 Housing Choice Voucher Program (HCVP). The purpose of this notice is to publish the names, addresses, and amount of the awards to PHAs for non-competitive funding awards for housing conversion actions, public housing relocations and replacements, moderate rehabilitation replacements, and HOPE VI voucher awards.

FOR FURTHER INFORMATION CONTACT: Michael S. Dennis, Director, Office of Housing Voucher Programs, Office of Public and Indian Housing, Department of Housing and Urban Development, 451 Seventh Street SW., Room 4228, Washington, DC 20410-5000, telephone (202) 402-4059. Hearing- or speech-impaired individuals may call HUD's TTY number at (800) 927-7589. (Only the “800” telephone number is toll-free.)

SUPPLEMENTARY INFORMATION: The regulations governing the HCVP are published at 24 CFR 982. The regulations for allocating housing assistance budget authority under Section 213(d) of the Housing and Community Development Act of 1974 are published at 24 CFR Part 791, Subpart D.

The purpose of this rental assistance program is to assist eligible families to pay their rent for decent, safe, and sanitary housing. The FY 2013 awardees announced in this notice were provided HCVP tenant protection vouchers (TPVs) funds on an as-needed, non-competitive basis, i.e., not consistent with the provisions of a Notice of Funding Availability (NOFAs). TPV awards made to PHAs for program actions that displace families living in public housing were made on a first-come, first-served basis in accordance with PIH Notice 2007-10, Voucher Funding in Connection with the Demolition or Disposition of Occupied Public Housing Units, and PIH Notice 2013-12, Implementation of the Federal Fiscal Year 2013 Funding Provision for the Housing Choice Voucher Program. Awards for the Rental Assistance Demonstration (RAD) were provided for Rental Supplement and Rental Assistance Payment Projects (RAD component #2) consistent with PIH Notice 2012-32. Announcements of awards provided under the NOFA process for Mainstream, Designated Housing, Family Unification (FUP), and Veterans Assistance Supportive Housing (VASH) programs will be published in a separate Federal Register notice.

Awards published under this notice were provided (1) to assist families living in HUD-owned properties that are being sold; (2) to assist families affected by the expiration or termination of their Project-based Section 8 and Moderate Rehabilitation contracts; (3) to assist families in properties where the owner has prepaid the HUD mortgage; (4) to assist families in projects where the Rental Supplement and Rental Assistance Payments contracts are expiring (Rental Assistance Demonstration (RAD—Second Component); (5) to provide relocation housing assistance in connection with the demolition of public housing; (6) to provide replacement housing assistance for single room occupancy (SRO) units that fail housing quality standards (HQS); and (7) to assist families in public housing developments that are scheduled for demolition in connection with a HUD-approved HOPE VI revitalization or demolition grant.

A special administrative fee of $200 per occupied unit was provided to PHAs to compensate for any extraordinary HCVP administrative costs associated with the Multifamily Housing conversion action(s).

The Department awarded total new budget authority of $86,772,680 for 18,710 housing choice vouchers to recipients under all of the above-mentioned categories. This budget authority includes $1,615,994 of unobligated commitments made in FY 2012. These funds were reserved by September 30, 2012, but not contracted until FY 2013, and thus have been included with obligated commitments for FY 2013.

In accordance with Section 102(a)(4)(C) of the Department of Housing and Urban Development Reform Act of 1989 (103 Stat. 1987, 42 U.S.C. 3545), the Department is publishing the names, addresses, and amounts of those awards as shown in Appendix A alphabetically by State then by PHA name.

Dated: December 11, 2013.
Deborah Hernandez,
General Deputy Assistant, Secretary for Public and Indian Housing.

Section 8 Rental Assistance Programs Announcement of Awards for Fiscal Year 2013
Housing agency | Address | Units | Award
Special Fees
Special Fee for Opt-Outs/Terminations
AR: CONWAY COUNTY HA | PO BOX 229, MORRILTON, AR 72110 | 0 | $1,400
CA: SAN FRANCISCO HA | 1815 EGBERT AVE, SAN FRANCISCO, CA 94124 | 0 | 2,600
CA: CITY OF LOS ANGELES HA | 2600 WILSHIRE BLVD, 3RD FL, LOS ANGELES, CA 90057 | 0 | 3,400
CA: COUNTY OF MONTEREY HA | 123 RICO ST, SALINAS, CA 93907 | 0 | 4,000
CA: COUNTY OF SONOMA HA | 1440 GUERNEVILLE RD, SANTA ROSA, CA 95403 | 0 | 9,600
CA: CITY OF POMONA HA | 505 S. GAREY AVE, POMONA, CA 91769 | 0 | 600
DC: DISTRICT OF COLUMBIA HA | 1133 NORTH CAPITOL ST NE., WASHINGTON, DC 20002 | 0 | 45,000
FL: MIAMI DADE HA | 701 NW., 1ST COURT, 16TH FL, MIAMI, FL 33136 | 0 | 1,200
GA: GEORGIA DCA | 60 EXECUTIVE PARK SO NE., STE 250, ATLANTA, GA 30329 | 0 | 2,600
IA: MID IOWA REGIONAL HA | 1605 1ST AVE NORTH, STE 1, FORT DODGE, IA 50501 | 0 | 2,400
ID: SOUTHWESTERN IDAHO COOP | 1108 WEST FINCH DR, NAMPA, ID 83651 | 0 | 1,800
KS: KANSAS CITY HA | 1124 NORTH NINTH ST, KANSAS CITY, KS 66101 | 0 | 1,200
KS: GREAT BEND HA | 1101 KANSAS AVE, GREAT BEND, KS 67530 | 0 | 400
KS: COWLEY COUNTY PHA | PO BOX 1122, ARKANSAS CITY, KS 67005 | 0 | 2,000
KY: KENTUCKY HOUSING CORP | 1231 LOUISVILLE RD, FRANKFORT, KY 40601 | 0 | 2,600
MA: MASSACHUSETTS DHCD | 100 CAMBRIDGE ST, BOSTON, MA 02114 | 0 | 19,600
MD: HA OF PRINCE GEORGE'S COUNTY | 9400 PEPPERCORN PL, STE 200, LARGO, MD 20774 | 0 | 45,000
ME: MAINE STATE HA | 353 WATER ST, AUGUSTA, ME 04330 | 0 | 600
MI: MICHIGAN STATE HSG DEV AUTH | PO BOX 30044, LANSING, MI 48909 | 0 | 42,200
MN: ST PAUL PHA | 555 NORTH WABASHA, STE 400, ST. PAUL, MN 55102 | 0 | 4,200
MN: EAST GRAND FORKS ECON DEV | PO BOX 439, EAST GRAND FORKS, MN 56721 | 0 | 1,200
MN: NW., MN MULTI-COUNTY HRA | PO BOX 128, MENTOR, MN 56736 | 0 | 1,200
MN: DOUGLAS COUNTY HRA | 1224 N. NOKOMIS ST, ALEXANDRIA, MN 56308 | 0 | 800
MN: SE MN MULTI-COUNTY HRA | 134 EAST SECOND ST, WABASHA, MN 55981 | 0 | 3,400
MO: SPRINGFIELD HA | 421 WEST MADISON ST, SPRINGFIELD, MO 65806 | 0 | 2,400
MT: HELENA HA | 812 ABBEY ST, HELENA, MT 59601 | 0 | 7,200
ND: HA OF CASS COUNTY | 230 8TH AVE WEST, WEST FARGO, ND 58078 | 0 | 600
ND: WALSH COUNTY HA | 600 E 9TH ST, GRAFTON, ND 58237 | 0 | 1,000
NE: CENTRAL NEBRASKA JOINT HA | PO BOX 509, LOUP CITY, NE 68853 | 0 | 600
NM: AN JUAN COUNTY HA | 7450 E. MAIN ST, STE C, FARMINGTON, NM 87402 | 0 | 1,400
NV: CITY OF RENO HA | 1525 EAST NINTH ST, RENO, NV 89512 | 0 | 5,200
NV: SOUTHERN NEVADA REG HA | 340 NORTH 11TH ST, LAS VEGAS, NV 89104 | 0 | 2,000
NY: TOWN OF ISLIP HA | 963 MONTAUK HWY, OAKDALE, NY 11769 | 0 | 1,400
NY: THE CITY OF NEW YORK DHPD | 100 GOLD ST, RM 501, NEW YORK, NY 10038 | 0 | 13,200
NY: CITY OF NEW ROCHELLE | 515 NORTH AVE, NEW ROCHELLE, NY 10801 | 0 | 7,600
NY: VILLAGE OF COBLESKILL | RD 1, BOX 12, COBLESKILL, NY | 0 | 6,400
NY: NYS HSG TRUST FUND CORP | 38-40 STATE ST, ALBANY, NY 12207 | 0 | 31,600
OH: COLUMBUS METRO HA | 880 EAST 11TH AVE, COLUMBUS, OH 43211 | 0 | 4,800
OH: KNOX METRO HA | 201A WEST HIGH ST, MOUNT VERNON, OH 43050 | 0 | 1,000
OR: HA OF JACKSON | 2231 TABLE ROCK RD, MEDFORD, OR 97501 | 0 | 2,400
OR: KLAMATH HA | PO BOX 5110, KLAMATH FALLS, OR 97601 | 0 | 3,400
OR: LINN-BENTON HA | 1250 SE QUEEN AVE, ALBANY, OR 97322 | 0 | 1,600
OR: JOSEPHINE HSG COMM DEV | PO BOX 1630, GRANTS PASS, OR 97528 | 0 | 2,400
OR: CENTRAL OREGON REG HA | 405 SW 6TH ST, REDMOND, OR 97756 | 0 | 6,800
PA: BEAVER COUNTY HA | 300 STATE ST, BEAVER, PA 15009 | 0 | 5,600
RQ: MUNICIPALITY OF SAN JUAN | PO BOX 36-2138, SAN JUAN, PR 00936 | 0 | 5,600
RQ: PUERTO RICO HSG FIN AGENCY | CALL BOX 71361-GPO, SAN JUAN, PR 00936 | 0 | 2,800
SD: PIERRE HSG REDEV AUTH | 301 W. PLEASANT AVE, PIERRE, SD 57501 | 0 | 600
SD: BROOKINGS HSG & REDEV | 1310 MAIN AVE SOUTH, BROOKINGS, SD 57006 | 0 | 2,400
TX: CUERO HA | PO BOX 804, CUERO, TX 77954 | 0 | 3,400
VA: HOPEWELL REDEV & HA | 350 E. POYTHRESS ST, HOPEWELL, VA 23860 | 0 | 5,600
VA: VIRGINIA HSG REDEV AUTH | 601 SOUTH BELVIDERE ST, RICHMOND, VA 23220 | 0 | 9,400
VT: BURLINGTON HA | 65 MAIN ST, BURLINGTON, VT 05401 | 0 | 1,400
WA: KING COUNTY HA | 600 ANDOVER PARK WEST, SEATTLE, WA 98188 | 0 | 32,000
WI: WISCONSIN HSNG & ECON DEV AUTH | PO BOX 1728, MADISON, WI 53701 | 0 | 5,600
WY: HA OF THE CITY CHEYENNE | 3304 SHERIDAN AVE, CHEYENNE, WY 82009 | 0 | 6,200
Total for Special Fees—Opt-Outs/Terminations |  | 0 | 382,600
Special Fees for Prepayments
CA: COUNTY OF LOS ANGELES HA | 700 W. MAIN ST, ALHAMBRA, CA 91801 | 0 | 8,600
CA: CITY OF LOS ANGELES HA | 2600 WILSHIRE BLVD., 3RD FL, LOS ANGELES, CA 90057 | 0 | 8,600
CA: COUNTY OF SANTA CLARA HA | 505 WEST JULIAN ST, SAN JOSE, CA 95110 | 0 | 17,800
CA: ALAMEDA COUNTY HA | 22941 ATHERTON ST, HAYWARD, CA 94541 | 0 | 30,200
CA: SANTA CRUZ COUNTY HA | 2931 MISSION ST, SANTA CRUZ, CA 95060 | 0 | 15,000
CA: CITY OF SANTA ROSA HA | 90 SANTA ROSA AVE, SANTA ROSA, CA 95402 | 0 | 8,400
CA: CITY OF SANTA ANA HA | 20 CIVIC CENTER PLZ, SANTA ANA, CA 92701 | 0 | 8,200
CA: COUNTY OF ORANGE HA | 1770 NORTH BROADWAY, SANTA ANA, CA 92706 | 0 | 52,200
CA: COUNTY OF SAN DIEGO | 3989 RUFFIN RD, SAN DIEGO, CA 92123 | 0 | 15,200
CT: CONN DEPT OF SOCIAL SERVICES | 25 SIGOURNEY ST, 9TH FL, HARTFORD, CT 06105 | 0 | 30,800
HI: CITY AND COUNTY OF HONOLULU | 715 SOUTH KING ST, STE 311, HONOLULU, HI 96813 | 0 | 44,800
IL: HA OF JOLIET | 6 SOUTH BROADWAY ST, JOLIET, IL 60436 | 0 | 28,000
IN: FORT WAYNE HA | PO BOX 13489, FORT WAYNE, IN 46869 | 0 | 23,800
IN: MICHIGAN CITY HA | 621 EAST MICHIGAN BLVD, MICHIGAN, IN 46360 | 0 | 16,800
KY: FRANKFORT HA | 590 WALTER TODD DR, FRANKFORT, KY 40601 | 0 | 4,400
KY: HENDERSON HA | 111 SOUTH ADAMS ST, HENDERSON, KY 42420 | 0 | 17,800
KY: CYNTHIANA HA | 149 FEDERAL ST, CYNTHIANA, KY 41031 | 0 | 4,200
MA: BOSTON HA | 52 CHAUNCY ST, BOSTON, MA 02111 | 0 | 1,600
MA: CAMBRIDGE HA | 675 MASSACHUSETTS AVE, CAMBRIDGE, MA 02139 | 0 | 7,800
MA: BROCKTON HA | 45 GODDARD RD, BROCKTON, MA 02303 | 0 | 17,200
MA: MASSACHUSETTS DHCD | 100 CAMBRIDGE ST, BOSTON, MA 02114 | 0 | 39,200
MD: HA OF BALTIMORE | 417 EAST FAYETTE ST, BALTIMORE, MD 21201 | 0 | 44,200
MD: MONTGOMERY COUNTY HOC | 10400 DETRICK AVE, KENSINGTON, MD 20895 | 0 | 8,600
MI: MICHIGAN STATE HSG DEV AUTH | PO BOX 30044, LANSING, MI 48909 | 0 | 84,800
MN: VIRGINIA HRA | PO BOX 1146, VIRGINIA, MN 55792 | 0 | 8,800
MS: MISSISSIPPI REGIONAL HA VIII | PO BOX 2347, GULFPORT, MS 39505 | 0 | 3,800
NJ: GLASSBORO HA | 737 LINCOLN BLVD, GLASSBORO, NJ 08028 | 0 | 12,600
NY: NYS HSG TRUST FUND CORP | 38-40 STATE ST, ALBANY, NY 12207 | 0 | 312,600
OH: COLUMBUS METRO HA | 880 EAST 11TH AVE, COLUMBUS, OH 43211 | 0 | 28,000
OR: HA OF HILLSBORO | 111 NE LINCOLN ST, STE 200-L, HILLSBORO, OR 97124 | 0 | 4,800
PA: MERCER COUNTY HA | 80 JEFFERSON AVE, SHARON, PA 16146 | 0 | 10,200
PA: ALTOONA HA | 2700 PLEASANT VALLEY BLVD, ALTOONA, PA 16602 | 0 | 10,000
PA: WILKES BARRE HA | 50 LINCOLN ST, WILKES BARRE, PA 18702 | 0 | 15,200
RI: RHODE ISLAND HSG MORT FIN CORP | 44 WASHINGTON ST, PROVIDENCE, RI 02903 | 0 | 35,000
TX: ARLINGTON HA | 501 W SANFORD, STE 20, ARLINGTON, TX 76011 | 0 | 21,600
VA: NORFOLK REDEV & HA | 201 GRANBY ST, NORFOLK, VA 23501 | 0 | 18,600
VA: ROANOKE REDEV & HA | 2624 SALEM TRNPK NW., ROANOKE, VA 24017 | 0 | 9,000
VA: FAIRFAX CO REDEV & HA | 3700 PENDER DR, STE 300, FAIRFAX, VA 22030 | 0 | 35,800
VA: BUCKINGHAM HA | PO BOX 400, DILLWYN, VA 23936 | 0 | 8,000
WA: HA OF CHELAN CO/WENATCHEE | 1555 SO METHOW ST, WENATCHEE, WA 98801 | 0 | 9,000
WY: HA OF THE CITY OF CHEYENNE | 3304 SHERIDAN AVE, CHEYENNE, WY 82009 | 0 | 2,200
Total for Special Fees—Prepayments |  | 0 | 1,083,400
Special Fees for RAD Conversions
CA: CITY OF SAN LUIS OBISPO HA | 487 LEFF ST, SAN LUIS OBISPO, CA 93406 | 0 | 3,400
CA: CITY OF SANTA BARBARA HA | 808 LAGUNA ST, SANTA BARBARA, CA 93101 | 0 | 21,200
IL: CITY OF EAST PEORIA HA | 100 SOUTH MAIN ST, EAST PEORIA, IL 61611 | 0 | 20,000
MA: BROCKTON HA | 45 GODDARD, BROCKTON, MA 02303 | 0 | 109,000
MA: MASSACHUSETTS DHCD | 100 CAMBRIDGE ST, BOSTON, MA 02114 | 0 | 36,600
MI: WESTLAND HSG COMM | 32715 DORSEY RD, WESTLAND, MI 48186 | 0 | 29,600
MI: MICHIGAN STATE HSG DEV AUTH | PO BOX 30044, LANSING, MI 48909 | 0 | 164,000
NJ: NEWARK HA | 500 BROAD ST, NEWARK, NJ 07102 | 0 | 33,600
NJ: ELIZABETH HA | 688 MAPLE AVE, ELIZABETH, NJ 07202 | 0 | 6,000
NJ: PERTH AMBOY HA | 881 AMBOY AVE, PERTH AMBOY, NJ 08861 | 0 | 20,000
NJ: PATERSON HA | 60 VAN HOUTEN ST, PATERSON, NJ 07505 | 0 | 28,400
NJ: EAST ORANGE HA | 160 HALSTED ST, EAST ORANGE, NJ 07018 | 0 | 17,400
NJ: VINELAND HA | 191 CHESTNUT AVE, VINELAND, NJ 08360 | 0 | 23,400
NJ: NJ DEPT OF COMM AFFAIRS | 101 SOUTH BROAD ST, TRENTON, NJ 08625 | 0 | 57,400
NY: BUFFALO MUNICIPAL HA | 300 PERRY ST, BUFFALO, NY 14204 | 0 | 14,400
NY: THE MUNICIPAL HA OF YONKERS | 1511 CENTRAL PARK AVE, YONKERS, NY 10710 | 0 | 40,600
NY: HA OF ROCHESTER | 675 WEST MAIN ST, ROCHESTER, NY 14611 | 0 | 102,200
NY: HA OF AMSTERDAM | 52 DIVISION ST, AMSTERDAM, NY 12010 | 0 | 18,600
NY: HA OF NORTH SYRACUSE | 201 SO MAIN ST, STE 205A, NORTH SYRACUSE, NY 13212 | 0 | 3,800
NY: THE CITY OF NEW YORK DHPD | 100 GOLD ST, RM 501, NEW YORK, NY 10038 | 0 | 20,600
NY: CITY OF POUGHKEEPSIE | MEMORIAL SQUARE, POUGHKEEPSIE, NY 12602 | 0 | 4,000
NY: CITY OF NIAGARA FALLS COM DEV | 1022 MAIN ST, NIAGARA, NY 14301 | 0 | 10,800
NY: NYS HSG TRUST FUND CORP | 38-40 STATE ST, ALBANY, NY 12207 | 0 | 279,600
PA: LACKAWANNA COUNTY HA | 2019 WEST PINE ST, DUNMORE, PA 18512 | 0 | 2,200
WA: HA OF CITY OF LONGVIEW | 1207 COMMERCE AVE, LONGVIEW, WA 98632 | 0 | 7,000
WA: HA OF CITY OF YAKIMA | 810 N 6TH AVE, YAKIMA, WA 98902 | 0 | 5,000
Total for Special Fees—RAD Conversions |  | 0 | 1,078,800
Special Fees for Rent Supplement
CA: SAN FRANCISCO HA | 1815 EGBERT AVE, SAN FRANCISCO, CA 94124 | 0 | 7,200
CA: COUNTY OF MERCED HA | 405 U ST, MERCED, CA 95340 | 0 | 14,000
FL: NW., FLORIDA REGIONAL HA | PO BOX 218, GRACEVILLE, FL 32440 | 0 | 1,600
KS: COWLEY COUNTY PHA PO BOX | 1122, ARKANSAS CITY, KS 67005 | 0 | 600
MA: BOSTON HA | 52 CHAUNCY ST, BOSTON, MA 02111 | 0 | 2,400
MA: HOLYOKE HA | 475 MAPLE ST, HOLYOKE, MA 01040 | 0 | 7,400
MI: MICHIGAN STATE HSG DEV AUTH | PO BOX 30044, LANSING, MI 48909 | 0 | 3,200
NJ: EAST ORANGE HA | 160 HALSTED ST, EAST ORANGE, NJ 07018 | 0 | 42,800
NY: HA OF AUBURN | 20 THORNTON AVE, AUBURN, NY 13021 | 0 | 11,000
NY: TOWN OF AMHERST | 1195 MAIN ST, BUFFALO, NY 14209 | 0 | 43,200
NY: CITY OF BUFFALO | 470 FRANKLIN ST, BUFFALO, NY 14202 | 0 | 13,200
NY: NYS HSG TRUST FUND CORP | 38-40 STATE ST, ALBANY, NY 12207 | 0 | 9,600
Total for Special Fees for Rent Supplement |  | 0 | 156,200
Total for Special Fees |  | 0 | 2,701,000
Public Housing TP
Mod Rehab Replacements
CA: COUNTY OF LOS ANGELES HA | 700 W. MAIN ST, ALHAMBRA, CA 91801 | 3 | 28,845
CA: SAN JOSE HA | 505 WEST JULIAN ST, SAN JOSE, CA 95110 | 4 | 33,160
CO: HA OF PUEBLO | 1414 NO SANTA FE AVE, PUEBLO, CO 81003 | 8 | 30,833
CO: BOULDER CITY HA | 4800 BROADWAY, BOULDER, CO 80304 | 8 | 64,251
DC: DISTRICT OF COLUMBIA HA | 1133 NORTH CAPITOL ST NE., WASHINGTON, DC 20002 | 49 | 440,972
IN: EAST CHICAGO HA | 4920 LARKSPUR DR, EAST CHICAGO, IN 46312 | 58 | 179,805
LA: LAKE CHARLES HA | PO BOX 1206, LAKE CHARLES, LA 70602 | 2 | 9,986
ME: MAINE STATE HA | 353 WATER ST, AUGUSTA, ME 04330 | 11 | 30,488
OH: CUYAHOGA MHA | 8120 KINSMAN RD, CLEVELAND, OH 44104 | 20 | 107,715
OK: OKLAHOMA HSG FIN AGENCY | 100 NW., 63RD ST, STE 200, OKLAHOMA CITY, OK 73116 | 1 | 4,505
SD: SIOUX FALLS HSG & REDEV COMM | 630 SOUTH MINNESOTA, SIOUX FALLS, SD 57104 | 5 | 18,495
TN: HA OF JOHNSON CITY | 901 PARDEE ST, JOHNSON CITY, TN 37601 | 15 | 70,663
WV: HA OF RALEIGH CO | 282 GEORGE ST, BECKLEY, WV 25802 | 9 | 31,483
Total for Mod Rehab Replacements |  | 193 | 1,051,201
Mod Rehab Replacements for RAD
CA: COUNTY OF LOS ANGELES HA | 700 W MAIN STREET, ALHAMBRA, CA 91801 | 162 | 708,005
Total for Mod Rehab Replacements for RAD |  | 162 | 708,005
MTW Relocation
GA: HA ATLANTA GA | 230 JOHN WESLEY DOBBS AVE NE., ATLANTA, GA 30303 | 160 | 268,080
IL: CHICAGO HA | 60 EAST VAN BUREN ST, 11TH FL, CHICAGO, IL 60605 | 58 | 277,831
OR: HA OF PORTLAND | 135 SW ASH ST, PORTLAND, OR 97204 | 649 | 798,192
TX: SAN ANTONIO HA | 818 S. FLORES ST, SAN ANTONIO, TX 78295 | 115 | 488,575
WA: SEATTLE HA | 120 SIXTH AVE NORTH, SEATTLE, WA 98109 | 181 | 351,012
WA: HA OF CITY OF VANCOUVER | 2500 MAIN ST, # 200, VANCOUVER, WA 98660 | 83 | 125,143
Total for MTW Relocation |  | 1,246 | 2,308,833
Public Housing Relocation
AL: HA OF BESSEMER | PO BOX 1390, BESSEMER, AL 35021 | 4 | 16,901
AZ: CITY OF ELOY HA | 100 W PHOENIX AVE, ELOY, AZ 85231 | 24 | 37,617
CA: COUNTY OF SACRAMENTO HA | 801 12TH ST, SACRAMENTO, CA 95814 | 78 | 689,252
CA: CITY OF BERKELEY HA | 1901 FAIRVIEW ST, BERKELEY, CA 94703 | 35 | 248,915
CA: CITY OF SANTA BARBARA HA | 808 LAGUNA ST, SANTA BARBARA, CA 93101 | 180 | 984,571
CO: BRIGHTON HA | 22 SO 4TH AVE, BRIGHTON, CO 80601 | 28 | 93,708
FL: HA OF FORT LAUDERDALE CITY | 437 SW 4TH AVE, FORT LAUDERDALE, FL 33315 | 157 | 1,323,804
FL: HA OF THE CITY OF FORT MYERS | 4224 RENAISSANCE PRESERVE WAY, FORT MYERS, FL 33916 | 99 | 713,465
GA: HA OF AUGUSTA | 1435 WALTON WAY, AUGUSTA, GA 30914 | 79 | 132,974
GA: GEORGIA DEPT OF COMM AFFAIRS | 60 EXECUTIVE PARK SO NE., STE 250, ATLANTA, GA 30329 | 238 | 1,011,983
IL: HA OF CITY OF ROCK ISLAND | 227 21ST ST, ROCK ISLAND, IL 61201 | 102 | 247,313
LA: NEW ORLEANS HA | 4100 TOURO ST, NEW ORLEANS, LA 70122 | 397 | 2,302,034
LA: EAST BATON ROUGE PHA | 4731 NORTH BLVD, BATON ROUGE, LA 70806 | 21 | 53,977
MD: MONTGOMERY COUNTY HOC | 10400 DETRICK AVE, KENSINGTON, MD 20895 | 469 | 3,398,015
NC: KINSTON HA | 608 N QUEEN ST, KINSTON, NC 28502 | 38 | 42,503
NJ: ASBURY PARK HA | 1000 1/2 THIRD AVE, ASBURY PARK, NJ 07712 | 69 | 208,861
NJ: JERSEY CITY HA | 400 U.S. HIGHWAY # 1, JERSEY CITY, NJ 07306 | 20 | 78,943
NJ: PLAINFIELD HA | 510 FRONT ST, PLAINFIELD, NJ 07060 | 100 | 167,956
NJ: GLASSBORO HA | 737 LINCOLN BLVD, GLASSBORO, NJ 08028 | 51 | 302,692
NY: HA OF NEW ROCHELLE | 50 SICKLES AVE, NEW ROCHELLE, NY 10801 | 144 | 521,820
OH: COLUMBUS METRO HA | 880 EAST 11TH AVE, COLUMBUS, OH 43211 | 161 | 288,883
OH: CUYAHOGA METRO HA | 8120 KINSMAN RD, CLEVELAND, OH 44104 | 110 | 288,913
OH: LORAIN METRO HA | 1600 KANSAS AVE, LORAIN, OH 44052 | 2 | 12,127
OR: HSG & URBAN REN AGENCY | PO BOX 467, DALLAS, OR 97338 | 4 | 14,016
PA: YORK CITY HA | 31 SO BROAD ST, YORK, PA 17405 | 14 | 23,696
TN: FRANKLIN HA | 200 SPRING ST, FRANKLIN, TN 37065 | 42 | 63,283
TX: HOUSTON HA | 2640 FOUNTAIN VIEW, HOUSTON, TX 77057 | 99 | 313,271
TX: HA OF DALLAS | 3939 NO HAMPTON RD, DALLAS, TX 75212 | 219 | 1,353,707
TX: HA OF PORT ARTHUR | PO BOX 2295, PORT ARTHUR, TX 77643 | 192 | 341,066
VQ: VIRGIN ISLANDS HA | PO BOX 7668, ST. THOMAS, VI 00801 | 264 | 2,242,469
Total for Public Housing Relocation |  | 3,440 | 17,518,735
Witness Relocation
CA: COUNTY OF RIVERSIDE HA | 5555 ARLINGTON AVE, RIVERSIDE, CA 92504 | 1 | 9,990
CO: AURORA HA | 10745 E KENTUCKY AVE, AURORA, CO 80012 | 1 | 6,066
MA: BOSTON HA | 52 CHAUNCY ST, BOSTON, MA 02111 | 2 | 19,318
MA: WEBSTER HA | GOLDEN HEIGHTS, WEBSTER, MA 01570 | 1 | 4,776
MD: MONTGOMERY COUNTY HOC | 10400 DETRICK AVE, KENSINGTON, MD 20895 | 5 | 79,416
MI: MICHIGAN STATE HSG DEV AUTH | PO BOX 30044, LANSING, MI 48909 | 1 | 10,386
MO: ST. LOUIS HA | 3520 PAGE BLVD, ST. LOUIS, MO 63106 | 1 | 10,680
PA: YORK CITY HA | 31 SO BROAD ST, YORK, PA 17405 | 1 | 7,260
PA: DELAWARE COUNTY HA | 1855 CONSTITUTION AVE, WOODLYN, PA 19094 | 1 | 14,664
TX: HARRIS COUNTY HA | 8410 LANTERN POINT, HOUSTON, TX 77054 | 1 | 10,010
VA: PRINCE WILLIAM CO HA | 15941 DONALD CURTIS DR, STE 112 | 1 | 21,480
Total for Witness Relocation |  | 16 | 194,046
Total for Public Housing Tenant Protection |  | 5,057 | 21,780,820
Housing Tenant Protection
Rent Supplement
CA: SAN FRANCISCO HA | 1815 EGBERT AVE, SAN FRANCISCO, CA 94124 | 36 | 554,079
CA: COUNTY OF MERCED HA | 405 U ST, MERCED, CA 95340 | 20 | 67,746
FL: NW FLORIDA REGIONAL HA | PO BOX 218, GRACEVILLE, FL 32440 | 8 | 15,244
KS: COWLEY COUNTY PHA | PO BOX 1122, ARKANSAS CITY, KS 67005 | 6 | 8,405
MA: BOSTON HA | 52 CHAUNCY ST, BOSTON, MA 02111 | 12 | 49,936
MA: HOLYOKE HA | 475 MAPLE ST, HOLYOKE, MA 01040 | 37 | 192,540
MI: MICHIGAN STATE HSG DEV AUTH | PO BOX 30044, LANSING, MI 48909 | 16 | 50,494
NJ: EAST ORANGE HA | 160 HALSTED ST, EAST ORANGE, NJ 07018 | 214 | 1,088,280
NY: HA OF AUBURN | 20 THORNTON AVE, AUBURN, NY 13021 | 28 | 19,145
NY: TOWN OF AMHERST | 1195 MAIN ST, BUFFALO, NY 14209 | 216 | 452,624
NY: CITY OF BUFFALO | 470 FRANKLIN ST, BUFFALO, NY 14202 | 66 | 99,383
NY: NYS HSG TRUST FUND CORP | 38-40 STATE ST, ALBANY, NY 12207 | 48 | 73,411
Total for Rent Supplement |  | 707 | 2,671,287
Prepayment Vouchers
CA: COUNTY OF LOS ANGELES HA | 700 W. MAIN ST, ALHAMBRA, CA 91801 | 43 | 300,684
CA: CITY OF LOS ANGELES HA | 2600 WILSHIRE BLVD, 3RD FL, LOS ANGELES, CA 90057 | 43 | 74,370
CA: COUNTY OF SANTA CLARA HA | 505 WEST JULIAN ST, SAN JOSE, CA 95110 | 89 | 203,833
CA: ALAMEDA COUNTY HA | 22941 ATHERTON ST, HAYWARD, CA 94541 | 152 | 1,767,006
CA: CITY OF SANTA ROSA HA | 90 SANTA ROSA AVE, SANTA ROSA, CA 95402 | 57 | 532,727
CA: CITY OF SANTA ANA HA | 20 CIVIC CENTER PLAZA, SANTA ANA, CA 92701 | 41 | 223,710
CA: COUNTY OF ORANGE HA | 1770 NORTH BROADWAY, SANTA ANA, CA 92706 | 268 | 3,056,519
CA: COUNTY OF SAN DIEGO | 3989 RUFFIN RD, SAN DIEGO, CA 92123 | 76 | 553,247
CT: CONN DEPT OF SOCIAL SERVICES | 25 SIGOURNEY ST, 9TH FL, HARTFORD, CT 06105 | 154 | 468,013
HI: CITY AND COUNTY OF HONOLULU | 715 SOUTH KING ST., STE 311, HONOLULU, HI 96813 | 224 | 1,171,307
IL: HA OF JOLIET | 6 SOUTH BROADWAY ST, JOLIET, IL 60436 | 140 | 204,406
KY: FRANKFORT HA | 590 WALTER TODD DR, FRANKFORT, KY 40601 | 22 | 21,732
KY: HENDERSON HA | 111 SOUTH ADAMS ST, HENDERSON, KY 42420 | 89 | 117,626
KY: CYNTHIANA HA | 149 FEDERAL ST, CYNTHIANA, KY 41031 | 28 | 115,362
MA: BOSTON HA | 52 CHAUNCY ST, BOSTON, MA 02111 | 8 | 85,959
MA: CAMBRIDGE HA | 675 MASSACHUSETTS AVE, CAMBRIDGE, MA 02139 | 39 | 102,573
MA: BROCKTON HA | 45 GODDARD RD, BROCKTON, MA 02303 | 86 | 527,635
MA: PLYMOUTH HA | POB 3537, PLYMOUTH, MA 02361 | 46 | 467,748
MA: MASSACHUSETTS DHCD | 100 CAMBRIDGE ST, BOSTON, MA 02114 | 196 | 1,201,154
MD: HA OF BALTIMORE | 417 EAST FAYETTE ST, BALTIMORE, MD 21201 | 221 | 729,079
MD: MONTGOMERY COUNTY HA | 10400 DETRICK AVE, KENSINGTON, MD 20895 | 43 | 567,987
MI: MICHIGAN STATE HSG DEV AUTH | PO BOX 30044, LANSING, MI 48909 | 424 | 1,425,099
IN: FORT WAYNE HA | PO BOX 13489, FORT WAYNE, IN 46869 | 119 | 230,936
IN: MICHIGAN CITY HA | 621 EAST MICHIGAN BLVD, MICHIGAN, IN 46360 | 84 | 150,407
MN: VIRGINIA HRA | PO BOX 1146, VIRGINIA, MN 55792 | 44 | 56,315
MS: MISSISSIPPI REGIONAL HA VIII | PO BOX 2347, GULFPORT, MS 39505 | 19 | 135,553
NJ: GLASSBORO HA | 737 LINCOLN BLVD, GLASSBORO, NJ 08028 | 63 | 135,566
NY: NYS HSG TRUST FUND CORP | 38-40 STATE ST, ALBANY, NY 12207 | 1,573 | 6,623,329
OH: COLUMBUS METRO. HA | 880 EAST 11TH AVE, COLUMBUS, OH 43211 | 140 | 442,747
OR: HA OF WASHINGTON COUNTY | 111 NE LINCOLN ST, STE 200-L, HILLSBORO, OR 97124 | 24 | 55,952
PA: MERCER COUNTY HA | 80 JEFFERSON AVE, SHARON, PA 16146 | 51 | 134,085
PA: ALTOONA HA | 2700 PLEASANT VALLEY BLVD, ALTOONA, PA 16602 | 50 | 64,388
PA: WILKES BARRE HA | 50 LINCOLN ST, WILKES BARRE, PA 18702 | 76 | 262,680
PA: ERIE COUNTY HA | 120 S. CENTER, CORRY, PA 16407 | 0 | 174,261
RI: RHODE ISLAND HSG MORT FIN CORP | 44 WASHINGTON ST, PROVIDENCE, RI 02903 | 175 | 1,582,408
TX: ARLINGTON HA | 501 W. SANFORD, STE 20, ARLINGTON, TX 76011 | 108 | 415,679
VA: NORFOLK REDEV & HA | 201 GRANBY ST, NORFOLK, VA 23501 | 93 | 330,959
VA: ROANOKE REDEV & HA | 2624 SALEM TRNPK NW., ROANOKE, VA 24017 | 55 | 158,440
VA: FAIRFAX CO RED AND HNG AUTH | 3700 PENDER DR, STE 300, FAIRFAX, VA 22030 | 179 | 1,359,279
VA: BUCKINGHAM HA | PO BOX 400, DILLWYN, VA 23936 | 40 | 32,470
WA: HA OF CHELAN COUNTY/CITY OF | 1555 SO METHOW ST, WENATCHEE, WA 98801 | 45 | 109,920
WY: HA OF THE CITY OF CHEYENNE | 3304 SHERIDAN AVE, CHEYENNE, WY 82009 | 11 | 18,968
Total for Prepayment Vouchers |  | 5,438 | 26,392,118
RAD Conversions
IL: CITY OF EAST PEORIA HA | 100 SOUTH MAIN ST, EAST PEORIA, IL 61611 | 100 | 146,860
MA: BROCKTON HA | 45 GODDARD RD, BROCKTON, MA 02303 | 545 | 3,026,724
MA: MASSACHUSETTS DHCD | 100 CAMBRIDGE ST, BOSTON, MA 02114 | 183 | 382,389
MI: MICHIGAN STATE HSG DEV AUTH | PO BOX 30044, LANSING, MI 48909 | 820 | 2,538,068
MI: WESTLAND HSG COMM | 32715 DORSEY RD, WESTLAND, MI 48186 | 148 | 318,230
NJ: ELIZABETH HA | 688 MAPLE AVE, ELIZABETH, NJ 07202 | 30 | 74,062
NJ: PERTH AMBOY HA | 881 AMBOY AVE, PERTH AMBOY, NJ 08861 | 100 | 272,160
NJ: PATERSON HA | 60 VAN HOUTEN ST, PATERSON, NJ 07505 | 142 | 394,561
NJ: EAST ORANGE HA | 160 HALSTED ST, EAST ORANGE, NJ 07018 | 87 | 442,432
NJ: VINELAND HA | 191 CHESTNUT AVE, VINELAND, NJ 08360 | 117 | 240,979
NJ: NJ DEPT OF COMM AFFAIRS | 101 SOUTH BROAD ST, TRENTON, NJ 08625 | 287 | 946,524
NY: BUFFALO MUNICIPAL HA | 300 PERRY ST, BUFFALO, NY 14204 | 72 | 81,248
NY: THE MUNICIPAL HA OF YONKERS | 1511 CENTRAL PARK AVE, YONKERS, NY 10710 | 203 | 545,146
NY: HA OF ROCHESTER | 675 WEST MAIN ST, ROCHESTER, NY 14611 | 634 | 2,590,913
NY: HA OF NORTH SYRACUSE | 201 SO MAIN ST, STE 205A, NORTH SYRACUSE, NY 13212 | 19 | 46,574
NY: THE CITY OF NEW YORK DHPD | 100 GOLD ST, RM 501, NEW YORK, NY 10038 | 103 | 619,044
NY: CITY OF POUGHKEEPSIE | MEMORIAL SQUARE, POUGHKEEPSIE, NY 12602 | 20 | 74,705
NY: CITY OF NIAGARA FALLS | 1022 MAIN ST, NIAGARA, NY 14301 | 54 | 38,011
NY: HA OF AMSTERDAM | 52 DIVISION ST, AMSTERDAM, NY 12010 | 93 | 159,261
NY: NYS HSG TRUST FUND CORP | 38-40 STATE ST, ALBANY, NY 12207 | 1,398 | 4,978,602
WA: HA CITY OF LONGVIEW | 1207 COMMERCE AVE, LONGVIEW, WA 98632 | 35 | 83,242
WA: HA OF THE CITY OF YAKIMA | 810 N 6TH AVE, YAKIMA, WA 98902 | 25 | 39,407
Total for RAD Conversions |  | 5,383 | 19,842,551
Termination/Opt-out Vouchers
AR: CONWAY COUNTY HA | PO BOX 229, MORRILTON, AR 72110 | 7 | 15,152
CA: SAN FRANCISCO HA | 1815 EGBERT AVE, SAN FRANCISCO, CA 94124 | 13 | 49,536
CA: CITY OF LOS ANGELES HA | 2600 WILSHIRE BLVD, 3RD FL, LOS ANGELES, CA 90057 | 17 | 168,045
CA: COUNTY OF MONTEREY HA | 123 RICO ST, SALINAS, CA 93907 | 20 | 42,244
CA: COUNTY OF SONOMA HA | 1440 GUERNEVILLE RD, SANTA ROSA, CA 95403 | 48 | 402,497
CA: CITY OF POMONA HA | 505 SO GAREY AVE, POMONA, CA 91769 | 3 | 8,658
DC: DISTRICT OF COLUMBIA HA | 1133 NORTH CAPITOL ST NE., WASHINGTON, DC 20002 | 249 | 1,744,171
FL: MIAMI DADE HA | 701 NW., 1ST COURT, 16TH FL, MIAMI, FL 33136 | 6 | 14,980
GA: GEORGIA DEP. OF COMM AFFAIRS | 60 EXECUTIVE PARK SO NE., STE 250, ATLANTA, GA 30329 | 16 | 52,804
IA: MID IOWA REGIONAL HA | 1605 1ST AVE NORTH, STE 1, FORT DODGE, IA 50501 | 12 | 18,815
ID: SOUTHWESTERN IDAHO COOP | 1108 WEST FINCH DR, NAMPA, ID 83651 | 9 | 17,311
KS: KANSAS CITY HA | 1124 NORTH NINTH ST, KANSAS CITY, KS 66101 | 7 | 39,014
KS: GREAT BEND HA | 1101 KANSAS AVE, GREAT BEND, KS 67530 | 2 | 2,951
KS: COWLEY COUNTY PHA | PO BOX 1122, ARKANSAS CITY, KS 67005 | 10 | 4,669
KY: KENTUCKY HOUSING CORP | 1231 LOUISVILLE RD, FRANKFORT, KY 40601 | 13 | 10,991
MA: MASSACHUSETTS DHCD | 100 CAMBRIDGE ST, BOSTON, MA 02114 | 98 | 901,326
MD: HA OF PRINCE GEORGE'S COUNTY | 9400 PEPPERCORN PL, STE 200, LARGO, MD 20774 | 238 | 3,264,437
ME: MAINE STATE HA | 353 WATER ST, AUGUSTA, ME 04330 | 3 | 9,546
MI: MICHIGAN STATE HSG DEV AUTH | PO BOX 30044, LANSING, MI 48909 | 211 | 529,733
MN: ST PAUL PHA | 555 NORTH WABASHA, STE 400, ST. PAUL, MN 55102 | 21 | 28,327
MN: EAST GRAND FORKS ECON DEV | PO BOX 439, EAST GRAND FORKS, MN 56721 | 6 | 11,724
MN: NW., MN MULTI-COUNTY HRA | PO BOX 128, MENTOR, MN 56736 | 6 | 20,874
MN: DOUGLAS COUNTY HRA | 1224 N. NOKOMIS ST, ALEXANDRIA, MN 56308 | 4 | 7,703
MN: SE MN MULTI-COUNTY HRA | 134 EAST SECOND ST, WABASHA, MN 55981 | 17 | 25,059
MO: SPRINGFIELD HA | 421 WEST MADISON ST, SPRINGFIELD, MO 65806 | 12 | 13,855
MT: HELENA HA | 812 ABBEY ST, HELENA, MT 59601 | 36 | 103,159
ND: HA OF CASS COUNTY | 230 8TH AVE WEST, WEST FARGO, ND 58078 | 7 | 30,238
ND: WALSH COUNTY HA | 600 EAST 9TH ST, GRAFTON, ND 58237 | 5 | 2,656
NE: CENTRAL NEBRASKA JOINT HA | PO BOX 509, LOUP CITY, NE 68853 | 3 | 4,652
NM: SAN JUAN COUNTY HA | 7450 E. MAIN ST, STE C, FARMINGTON, NM 87402 | 20 | 84,286
NV: CITY OF RENO HA | 1525 EAST NINTH ST, RENO, NV 89512 | 26 | 81,635
NV: SOUTHERN NEVADA REG HA | 340 NORTH 11TH ST, LAS VEGAS, NV 89104 | 10 | 49,331
NY: THE CITY OF NEW YORK DHPD | 100 GOLD ST, RM 501, NEW YORK, NY 10038 | 66 | 584,972
NY: CITY OF NEW ROCHELLE | 515 NORTH AVE, NEW ROCHELLE, NY 10801 | 38 | 420,231
NY: VILLAGE OF COBLESKILL RD 1, | BOX 12, COBLESKILL, NY 12043 | 34 | 307,387
NY: NYS HSG TRUST FUND CORP | 38-40 STATE ST, ALBANY, NY 12207 | 155 | 1,202,109
OH: COLUMBUS METRO HA | 880 EAST 11TH AVE, COLUMBUS, OH 43211 | 24 | 152,378
OH: KNOX METRO HA | 201A WEST HIGH ST, MOUNT VERNON, OH 43050 | 22 | 90,893
OR: HA OF JACKSON | 2231 TABLE ROCK RD, MEDFORD, OR 97501 | 12 | 10,318
OR: KLAMATH HA | PO BOX 5110, KLAMATH FALLS, OR 97601 | 17 | 75,745
OR: LINN-BENTON HA | 1250 SE QUEEN AVE, ALBANY, OR 97322 | 8 | 18,566
OR: JOSEPHINE HSG COMM DEV COUNCIL | PO BOX 1630, GRANTS PASS, OR 97528 | 12 | 20,579
OR: CENTRAL OREGON REG HA | 405 SW 6TH ST, REDMOND, OR 97756 | 34 | 135,810
PA: BEAVER COUNTY HA | 300 STATE ST, BEAVER, PA 15009 | 28 | 9,669
PA: ERIE COUNTY HA | 120 SO CENTER, CORRY, PA 16407 | 0 | 62,625
RQ: MUNICIPALITY OF SAN JUAN | PO BOX 36-2138, SAN JUAN, PR 00936 | 28 | 31,190
RQ: PUERTO RICO HSG FIN AGENCY CALL | BOX 71361-GPO, SAN JUAN, PR 00936 | 14 | 14,288
SD: PIERRE HSG & REDEV AGENCY | 301 W. PLEASANT AVE, PIERRE, SD 57501 | 3 | 2,621
SD: BROOKINGS HSG & REDEV AGENCY | 1310 MAIN AVE SOUTH, BROOKINGS, SD 57006 | 12 | 17,777
TX: CUERO HA | PO BOX 804, CUERO, TX 77954 | 17 | 13,936
VA: HOPEWELL REDEV & HA | 350 E. POYTHRESS ST, HOPEWELL, VA 23860 | 28 | 101,264
VA: VIRGINIA HSG DEV AUTH | 601 SOUTH BELVIDERE ST, RICHMOND, VA 23220 | 47 | 203,546
VT: BURLINGTON HA | 65 MAIN ST, BURLINGTON, VT 05401 | 7 | 10,222
WA: KING COUNTY HA | 600 ANDOVER PARK WEST, SEATTLE, WA 98188 | 160 | 882,616
WI: WISCONSIN HSG & ECON DEV | PO BOX 1728, MADISON, WI 53701 | 30 | 146,617
WY: HA OF THE CITY OF CHEYENNE | 3304 SHERIDAN AVE, CHEYENNE, WY 82009 | 34 | 121,299
Total for Termination/Opt-out Vouchers |  | 1,985 | 12,397,037
Total for Housing Tenant Protection |  | 13,513 | 61,302,993
SRO Replacements
CA: HA OF CITY OF NAPA | 1115 SEMINARY ST, NAPA, CA 94559 | 7 | 57,797
NY: NYS HSG TRUST FUND CORP | 38-40 STATE ST, ALBANY, NY 12207 | 22 | 201,881
TX: SAN ANTONIO HA | 818 SO FLORES ST, SAN ANTONIO, TX 78295 | 87 | 554,427
UT: HA OF SALT LAKE | 1776 SW TEMPLE, SALT LAKE CITY, UT 84115 | 24 | 173,762
Total for SRO Replacements |  | 140 | 987,867
Grand Total |  | 18,710 | $86,772,680

[FR Doc. 2013-30362 Filed 12-19-13; 8:45 am]

BILLING CODE 4210-67-P